DEPARTMENT OF COMMERCE

International Trade Administration

[A-570-850, A-583-826]

Collated Roofing Nails from the People's Republic of China and Taiwan: Final Results of Five Year Sunset Reviews and Revocation of Antidumping Duty Orders

Correction

In notice document 02-29915 beginning on page 70578 in the issue of Monday, November 25, 2002, make the following correction:

On page 70578, in the third column, under the EFFECTIVE DATE heading, in the first line, “November 25, 2002” should read, “November 19, 2002”.

[FR Doc. C2-29915 Filed 12-5-02; 8:45 am]

BILLING CODE 1505-01-D

DEPARTMENT OF DEFENSE

Department of the Army

Availability for Non-Exclusive, Exclusive, or Partially Exclusive Licensing of U.S. Provisional Patent Application Concerning Hybrid Inhalation System for Precious Materials

Correction

In notice document 02-30569 appearing on page 71942 in the issue of Tuesday, December 3, 2002, make the following correction:

On page 71942, in the third column, under the heading SUPPLEMENTARY INFORMATION, in the fifth line, “sued” should read, “used”.

[FR Doc. C2-30569 Filed 12-5-02; 8:45 am]

BILLING CODE 1505-01-D

ENVIRONMENTAL PROTECTION AGENCY

40 CFR Part 1065

[AMS-FRL-7380-2]

RIN 2060-AI11

Control of Emissions From Nonroad Large Spark-Ignition Engines, and Recreational Engines (Marine and Land-Based)

Correction

In rule document 02-23801 beginning on page 68242 in the issue of Friday, November 8, 2002, make the following correction:

§1065.210 [Corrected]

1. On page 68415, in § 1065.210, in Table 1, in the third column, the heading “Value¹” should read, “Value”.

2. On page 68416, in § 1065.210, in Table 1, in the third column, the heading “Value¹” should read, “Value”.

3. On the same page, in the same section, in Table 2, in the third column, the heading “Value¹” should read, “Value”.

[FR Doc. C2-23801 Filed 12-5-02; 8:45 am]

BILLING CODE 1505-01-D